DEPARTMENT OF JUSTICE

Notice of Lodging of Consent Decree Under the Resource Conservation and Recovery Act and the Clean Water Act

Notice is hereby given that on May 14, 2001, a proposed consent decree in United States v. A&S Tribal Industries, Civil Action No. CV-01-96M-DWM, was lodged with the United States District Court for the District of Montana.

In this action, the United States sought injunctive relief and the payment of civil penalties for A&S Tribal Industries' alleged violations of the hazardous waste generator and treatment, storage and disposal requirements of the Resource Conservation and Recovery Act (“RCRA”, and the pretreatment requirements of the Clean Water Act, at its facility located near Poplar, Montana. Under the proposed decree, the defendant A&S Tribal Industries will pay the sum of $40,000 over a three year period. The settlement sum is based upon the financial inability of A&S Tribal Industries to pay more. The proposed decree also requires that A&S Tribal Industries take specified injunctive measures to prevent RCRA generator and waste storage violations in the future and to perform initial sampling at facility locations where hazardous waste releases have occurred. The proposed decree also requires that A&S Tribal Industries install, operate and maintain pretreatment equipment necessary to achieve applicable discharge limits.

The Department of Justice will receive for a period of thirty (30) days from the date of this publication comments relating to the proposed consent decree. Comments should be addressed to the Assistant Attorney General of the Environment and Natural Resources Division, Department of Justice, Washington, DC 20530, and should refer to United States. v. A&S Tribal Industries, D.J. Ref. 90-7-1-06092.

The proposed consent decree may be examined at the Office of the United States Attorney, 2929 3rd Avenue North, Suite 400, Billings, Montana 59103; and at U.S. EPA Region VIII, 999 18th Street, Denver, Colorado 80202. A copy of the proposed consent decree may be obtained by mail from the Consent Decree Library, P.O. Box 7611, Washington, DC 20044. In requesting a copy, please enclose a check in the amount of $12.00 (25 cents per page reproduction cost) payable to the Consent Decree Library.

Robert D. Brook,
Assistant Chief, Environmental Enforcement Section, Environment and Natural Resources Division.

[FR Doc. 01-13773 Filed 5-31-01; 8:45 am]

BILLING CODE 4410-15-M